DEPARTMENT OF TRANSPORTATION

Federal Motor Carrier Safety Administration

49 CFR Part 393 and Appendix G to Subchapter B of Chapter III

[Docket No. FMCSA-2015-0176]

RIN 2126-AB81

Parts and Accessories Necessary for Safe Operation; Inspection, Repair, and Maintenance; Correction

AGENCY: Federal Motor Carrier Safety Administration (FMCSA), DOT.

ACTION: Final rule; correction.

SUMMARY: This notice makes corrections to a final rule published in the Federal Register on July 22, 2016, regarding amendments to the Federal Motor Carrier Safety Regulations in response to several petitions for rulemaking and NTSB recommendations. The Agency makes several minor clerical corrections regarding the rear license plate lamp requirements and the periodic inspection requirements for antilock brake systems (ABS).

DATES: This rule is effective September 2, 2016.

ADDRESSES: All background documents, comments, and materials related to this rule may be viewed in docket number FMCSA-2015-0176 using either of the following methods:

• Federal eRulemaking Portal: http://www.regulations.gov.

• Docket Management Facility (M-30), U.S. Department of Transportation, West Building Ground Floor, Room W12-140, 1200 New Jersey Avenue SE., Washington, DC 20590-0001.

FOR FURTHER INFORMATION CONTACT: Mr. Mike Huntley, Vehicle and Roadside Operations Division, Office of Bus and Truck Standards and Operations, Federal Motor Carrier Safety Administration, telephone: 202-366-5370; michael.huntley@dot.gov. Office hours are from 8 a.m. to 4:30 p.m. ET, Monday through Friday, except Federal holidays.

SUPPLEMENTARY INFORMATION:

Public Participation

Viewing Documents

To view comments submitted to previous rulemaking documents on this subject, go to http://www.regulations.gov and click on the “Read Comments” box in the upper right hand side of the screen. Then, in the “Keyword” box, insert “FMCSA-2015-0176” and click “Search.” Next, click “Open Docket Folder” in the “Actions” column. Finally, in the “Title” column, click on the document you would like to review. If you do not have access to the Internet, you may view the docket online by visiting the Docket Management Facility in Room W12-140 on the ground floor of the DOT West Building, 1200 New Jersey Avenue SE., Washington, DC 20590, between 9 a.m. and 5 p.m., ET, Monday through Friday, except Federal holidays.

Privacy Act

All comments received were posted without change to http://www.regulations.gov. In accordance with 5 U.S.C. 553(c), DOT previously solicited comments from the public to better inform its rulemaking process. DOT posted these comments, without edit, including any personal information the commenter provides, to www.regulations.gov, as described in the system of records notice (DOT/ALL-14 FDMS), which can be reviewed at www.dot.gov/privacy.

Corrections

FMCSA is making minor corrections to fix errors found in the final rule published on July 22, 2016. In § 393.11, the Agency corrects Footnote 11 of Table 1 to read “No rear license plate lamp is required on vehicles that do not display a rear license plate.” FMCSA inadvertently omitted the word “not” in this footnote.

The Agency corrects section 1.l.(4)(b) of Appendix G to Subchapter B of Chapter III, to read “only to the vehicle's stop lamp circuit.” FMCSA inadvertently omitted the phrase “vehicle's stop lamp circuit” in this section.

As noted in the final rule, the National Highway Traffic Safety Administration had extended the compliance date for antilock brake systems (ABS) on hydraulic braked vehicles from March 1, 1999, to September 1, 1999, but that action was limited to an extension of the malfunction indicator lamp requirement in S5.3.3(b) of FMVSS No. 105—and not for the general requirement to equip hydraulic-braked vehicles with ABS. As such, all hydraulic-braked vehicles were still expected to be equipped with ABS effective March 1, 1999. While FMCSA included footnotes to help explain the different effective dates for the various ABS requirements in the Appendix G periodic inspection requirements, those footnotes are amended and repositioned to accurately reflect the effective dates for the various ABS requirements in Appendix G.

Lastly, section 1.l.(5) is amended to note that it only applies to towed vehicles equipped with air brakes.

List of Subjects in 49 CFR Part 393

Highway safety, Motor carriers, Motor vehicle safety.

Accordingly, for reasons set forth in the preamble, FMCSA amends 49 CFR part 393 and appendix G to subchapter B of chapter III as follows:

PART 393—PARTS AND ACCESSORIES NECESSARY FOR SAFE OPERATION

1. The authority citation for part 393 continues to read as follows:

Authority: 49 U.S.C. 31136, 31151, and 31502; sec. 1041(b) of Pub. L. 102-240, 105 Stat. 1914, 1993 (1991); sec. 5524 of Pub. L. 114-94, 129 Stat. 1312, 1560; and 49 CFR 1.87.

2. In § 393.11, revise Footnote 11 of Table 1 to read as follows:

§ 393.11 Lamps and reflective devices.

* * * * *

Table 1 of § 393.11—Required Lamps and Reflectors on Commercial Motor Vehicles

* * * * *

Footnote—11 To be illuminated when headlamps are illuminated. No rear license plate lamp is required on vehicles that do not display a rear license plate.

* * * * *

3. In Appendix G to subchapter B of chapter III, revise Section 1.l to read as follows:

Appendix G to Subchapter B of Chapter III—Minimum Periodic Inspection Standards

* * * * *

1. Brake System

* * * * *

l. Antilock Brake System1 2 3

(1) Missing ABS malfunction indicator components (i.e., bulb, wiring, etc.).

(2) ABS malfunction indicator that does not illuminate when power is first applied to the ABS controller (ECU) during initial power up.

(3) ABS malfunction indicator that stays illuminated while power is continuously applied to the ABS controller (ECU).

(4) ABS malfunction indicator lamp on a trailer or dolly does not cycle when electrical power is applied (a) only to the vehicle's constant ABS power circuit, or (b) only to the vehicle's stop lamp circuit.

(5) With its brakes released and its ignition switch in the normal run position, power unit does not provide continuous electrical power to the ABS on any air-braked vehicle it is equipped to tow.

(6) Other missing or inoperative ABS components.

* * * * *

¹ Power units manufactured after March 1, 2001, have two ABS malfunction indicators, one for the power unit and one for the units that they tow. Both malfunction indicators are required to be fully functional.

² Air-braked vehicles: Subsections (1)-(6) of this section are applicable to tractors with air brakes built on or after March 1, 1997, and all other vehicles with air brakes built on or after March 1, 1998.

³ Hydraulic-braked vehicles: Subsections (1)-(3) of this section are applicable to vehicles over 10,000 lbs. GVWR with hydraulic brakes built on or after September 1, 1999. Subsection (6) of this section is applicable to vehicles over 10,000 lbs. with hydraulic brakes built on or after March 1, 1999.

Issued under authority delegated in 49 CFR 1.87. August 25, 2016.
Larry W. Minor,
Associate Administrator for Policy.

[FR Doc. 2016-20927 Filed 9-1-16; 8:45 am]

BILLING CODE 4910-EX-P